DEPARTMENT OF EDUCATION

Experimental and Innovative Training

AGENCY: Office of Special Education and Rehabilitative Services, Department of Education.

ACTION: Notice of proposed priority.

SUMMARY: The Assistant Secretary for the Office of Special Education and Rehabilitative Services proposes a priority under the Experimental and Innovative Training program. The Assistant Secretary may use this priority for competitions in fiscal year (FY) 2003 and later years. We take this action to focus on training in an identified area of national need. We intend the priority to develop and disseminate rehabilitation training curriculum modules designed to increase student contact with individuals with disabilities that may be incorporated into rehabilitation training programs. The purpose of the curriculum modules is to enhance students' understanding of disability culture and counselor skills that support the empowerment of vocational rehabilitation (VR) customers with disabilities.

DATES: We must receive your comments on or before November 4, 2002.

ADDRESSES: Address all comments about this proposed priority to Edward Smith, U.S. Department of Education, 400 Maryland Ave, SW., Switzer Building, room 3325, Washington, DC 20202-2649. If you prefer to send your comments through the Internet, use the following address: Edward.Smith@ed.gov.

You must include the term “Experimental and Innovative Training” in the subject line of your electronic message.

FOR FURTHER INFORMATION CONTACT: Edward Smith. Telephone: (202) 205-8926 or via Internet: Edward.Smith@ed.gov.

If you use a telecommunications device for the deaf (TDD), you may call the TDD number at (202) 205-8133.

Individuals with disabilities may obtain this document in an alternative format (e.g., Braille, large print, audiotape, or computer diskette) on request to the contact person listed under FOR FURTHER INFORMATION CONTACT.

SUPPLEMENTARY INFORMATION:

Invitation To Comment

We invite you to submit comments regarding this proposed priority. We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this proposed priority in room 3414, Switzer Building, 330 C Street, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact the person listed under FOR FURTHER INFORMATION CONTACT.

The Experimental and Innovative Training program provides financial assistance—

(1) To develop new types of training programs for rehabilitation personnel and to demonstrate the effectiveness of those new types of training programs for rehabilitation personnel in providing rehabilitation services to individuals with disabilities; and

(2) To develop new and improved methods of training rehabilitation personnel so that there may be a more effective delivery of rehabilitation services by State and other rehabilitation agencies.

We propose this priority to increase the knowledge and skills of rehabilitation personnel in disability culture and customer empowerment. This proposed priority would support the development of rehabilitation training curriculum modules that provide students with the opportunity to interact with individuals with disabilities in a non-hierarchical (student counselor to consumer) relationship. This will help to foster an increase in the students' knowledge of and skills regarding the unique social and cultural experiences of individuals with disabilities and of the behaviors that enhance empowerment from the perspective of individuals with disabilities.

We will announce the final priority in a notice in the Federal Register. We will determine the final priority after considering responses to this notice and other information available to the Department. This notice does not preclude us from proposing or funding additional priorities, subject to meeting applicable rulemaking requirements.

Note: This notice does not solicit applications. In any year in which we choose to use this proposed priority, we invite applications through a notice in the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the priority (34 CFR 75.105(c)(2)(i)); or (2) selecting an application that meets the priority over an application of comparable merit that does not meet the priority (34 CFR 75.105(c)(2)(ii)).

Invitational priority: Under an invitational priority, we are particularly interested in applications that meet the invitational priority. However, we do not give an application that meets the priority a competitive or absolute preference over other applications (34 CFR 75.105(c)(1)).

Priority: Proposed Priority: Curriculum Modules: Experiential Activities to Enhance Rehabilitation Empowerment

Background: Over the history of the Rehabilitation Act of 1973, as amended, groups of individuals with disabilities have expressed concern through public hearings regarding the expertise of counselors of the public VR system to understand the experience of individuals with disabilities and to provide assistance to those individuals to develop the skills of empowerment. The concept of empowerment is defined in a number of ways in the professional literature. For the purposes of this priority, empowerment is defined as individuals having the information, education, training, confidence, and high expectations needed to make effective employment and life-related decisions.

One method of increasing the VR counselor's understanding of individuals with disabilities is to provide opportunities for individuals preparing for careers in rehabilitation to interact with people with disabilities in a variety of settings. A review of rehabilitation counseling training programs funded by the Rehabilitation Services Administration (RSA) indicates that few programs provide curriculum modules that enable students to interact with individuals with disabilities in settings that do not involve a counseling relationship.

Priority: This priority supports projects that provide experiential activities that increase the amount of personal contact and experience of VR students with individuals with disabilities in non-counseling settings. This priority is intended to support the design, piloting, evaluation, and dissemination of course modules to be incorporated into rehabilitation training program curricula that enhance student understanding of the culture of individuals with disabilities and of the behaviors that enhance empowerment from the perspective of individuals with disabilities.

Projects funded under this priority must incorporate experiential activities in which students interact directly with persons with disabilities in situations other than traditional and hierarchical student counselor to consumer relationships.

Projects must include an evaluation of the impact of the course module or modules and a dissemination plan to be carried out in the last year of the project period.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR parts 385 and 387.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

(Catalog of Federal Domestic Assistance Number 84.263 Experimental and Innovative Training)

Program Authority: 29 U.S.C. 772.

Dated: October 1, 2002.
Robert H. Pasternack,
Assistant Secretary for Special Education and Rehabilitative Services.

[FR Doc. 02-25326 Filed 10-3-02; 8:45 am]

BILLING CODE 4000-01-P